DEPARTMENT OF COMMERCE

National Oceanic and Atmospheric Administration

[I.D. 012402E]

Pacific Fishery Management Council; Public Meeting

AGENCY: National Marine Fisheries Service (NMFS), National Oceanic and Atmospheric Administration (NOAA), Commerce.

ACTION: Notice of public meeting.

SUMMARY: The Groundfish Stock Assessment Review (STAR) Panel for Pacific whiting will hold a work session which is open to the public.

DATES: The Pacific whiting Stock Assessment Review Panel will meet beginning at 1 p.m., February 20, 2002. The meeting will continue on February 21, 2002 beginning at 8 a.m. through February 22, 2002. The meetings will end at 5 p.m. each day, or as necessary to complete business.

ADDRESSES: The Pacific whiting Stock Assessment Review Panel meeting will be held at NMFS Northwest Fisheries Science Center, 2725 Montlake Blvd. E, Seattle, WA 98112; 206-860-3200. The meeting will convene in room 438E on February 20, 2002 and in room 370W on February 21 and 22, 2002.

Council address: Pacific Fishery Management Council, 7700 NE Ambassador Place, Suite 200, Portland, OR 97220-1384.

FOR FURTHER INFORMATION CONTACT: Mr. Chuck Tracy, Staff Officer; 503-326-6352.

SUPPLEMENTARY INFORMATION: The purpose of the meeting is to review draft stock assessment documents and any other pertinent information, work with the Stock Assessment Team to make necessary revisions, and produce a STAR Panel report for use by the Council family and other interested persons.

Entry to the Northwest Fisheries Science Center requires identification with photograph (such as a student ID, state drivers license, etc.) A security guard will review the identification and issue a Visitor's Badge valid only for the date of the meeting.

Special Accommodations

The meeting is physically accessible to people with disabilities. Requests for sign language interpretation or other auxiliary aids should be directed to Ms. Carolyn Porter at 503-326-6352 at least 5 days prior to the meeting date.

Although nonemergency issues not contained in STAR Panel agendas may come before the STAR Panel for discussion, those issues may not be the subject of formal Panel action during this meeting. STAR Panel action will be restricted to those issues specifically listed in this notice, and any issues arising after publication of this notice that require emergency action under section 305 (c) of the Magnuson-Stevens Fishery Conservation and Management Act, provided the public has been notified of the Panel's intent to take final action to address the emergency.

Dated: January 28, 2002.
Richard W. Surdi,
Acting Director, Office of Sustainable Fisheries, National Marine Fisheries Service.

[FR Doc. 02-2529 Filed 1-31-02; 8:45 am]

BILLING CODE 3510-22-S